EXPORT-IMPORT BANK

[Public Notice: 2021-3034]

Agency Information Collection Activities: Comment Request

AGENCY: Export-Import Bank of the United States.

ACTION: Submission for OMB review and comments request.

SUMMARY: The Export-Import Banks of the United States (EXIM), as part of its continuing effort to reduce paperwork and respondent burden, invites the general public and other Federal Agencies to comment on the proposed information collection, as required by the Paperwork Reduction Act of 1995. This collection of information is necessary to determine eligibility of the applicant for EXIM assistance.

DATES: Comments must be received on or before November 29, 2021 to be assured of consideration.

ADDRESSES: Comments may be submitted electronically on WWW.REGULATIONS.GOV (EIB 10-02) or by email tara.pender@exim.gov, or by mail to Tara Pender, Export-Import Bank of the United States, 811 Vermont Ave. NW, Washington, DC. The application tool can be reviewed at: https://www.exim.gov/sites/default/files/pub/pending/eib10_02.pdf.

FOR FURTHER INFORMATION CONTACT: To request additional information, please Tara Pender. 202-565-3655.

SUPPLEMENTARY INFORMATION:

Title and Form Number: EIB 10-02 Application for Short-Term Express Credit Insurance Policy.

OMB Number: 3048-0031.

Type of Review: Update & Renewal.

Need and Use: This form is used by an exporter (or broker acting on its behalf) in order to obtain approval for coverage of the repayment risk of export sales. The information received allows EXIM staff to make a determination of the eligibility of the applicant and the creditworthiness of one of the applicant's foreign buyers for EXIM assistance under its programs.

This is the application form for use by small U.S. businesses with limited export experience. Companies that are eligible to use the Express policy will need to answer approximately 20 questions and sign an acknowledgement of the certifications that appear on the reverse of the application form. This program does not provide discretionary credit authority to the U.S. exporter, and therefore the financial and credit information needs are minimized.

Affected Public: This form affects entities involved in the export of U.S. goods and services.

Annual Number of Respondents: 500.

Estimated Time per Respondent: 0.25 hours.

Annual Burden Hours: 125 hours.

Frequency of Reporting of Use: Once per year.

Government Expenses:

Reviewing Time per Year: 1,000 hours.

Average Wages per Hour: $42.50.

Average Cost per Year: $42,500 (time * wages).

Benefits and Overhead: 20%.

Total Government Cost: $ 51,000.

Bassam Doughman,
IT Specialist.

[FR Doc. 2021-23466 Filed 10-27-21; 8:45 am]

BILLING CODE 6690-01-P